DEPARTMENT OF COMMERCE

National Oceanic and Atmospheric Administration

[RTID 0648-XE682]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one day in-person meeting of its Reef Fish Advisory Panel (AP).

DATES: The meeting will take place Monday, March 17, 2025, from 8:30 a.m. to 5 p.m., EDT.

ADDRESSES: The in-person meeting will take place at the Gulf Council office. Registration information will be available on the Council's website by visiting www.gulfcouncil.org and clicking on the Reef Fish meeting on the calendar.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Monday, March 17, 2025; 8:30 a.m.-5 p.m., EDT

The meeting will begin with Introductions of Members and Adoption of Agenda, Approval of Minutes and Meeting Summary from the December 2024 meeting, Scope of Work and review of Reef Fish and IFQ Program Landings.

The AP will review and discuss Amendment 58B: Deep-water Grouper Management Measures and Reef Fish Framework Action: Modifications to Other Shallow-water Grouper Catch Limits. The AP will then review the progress of SEDAR 79: Southeastern US Mutton Snapper Stock Assessment and SSC Recommendations; including presentations, background materials, Fishermen Feedback, and SSC Recommendations.

The AP will review SEDAR 96: Southeastern U.S. Yellowtail Snapper Stock Assessment and SEDAR 88: Gulf of Mexico Red Grouper Stock Assessment and SSC Recommendations for Overfishing Limit (OFL) and Acceptable Biological Catch (ABC); including presentations, background materials, Fishermen Feedback, and SSC Recommendations.

The AP will receive an update and discuss Headboat Data Collection and SSC Recommendations on Return `em Right Research, including presentations and AP Recommendations.

Lastly, the AP will receive Public Comment and discuss any Other Business items.

—Meeting Adjourns

The meeting will also be broadcast via webinar. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: February 24, 2025.
Rey Israel Marquez,
Acting Deputy Director, Office of Sustainable Fisheries, National Marine Fisheries Service.

[FR Doc. 2025-03176 Filed 2-26-25; 8:45 am]

BILLING CODE 3510-22-P